DEPARTMENT OF STATE

[Public Notice 7528]

Extension of Agreement Between the United States Department of State and the Council on Accreditation

The United States Department of State and the Council on Accreditation agree that the Agreement Between the U.S. Department of State and the Council on Accreditation Regarding Performance of Duties as an Accrediting Entity Under the Intercountry Adoption Act of 2000 will remain in effect until July 11, 2016.

Dated: July 11, 2011.
Janice Jacobs,
Assistant Secretary, Consular Affairs, U.S. Department of State.

[FR Doc. 2011-18197 Filed 7-18-11; 8:45 am]

BILLING CODE 4710-06-P